DEPARTMENT OF THE INTERIOR

Fish and Wildlife Service

Availability of Draft Comprehensive Conservation Plan and Environmental Assessment for Tewaukon National Wildlife Refuge, Cayuga, ND

AGENCY: Fish and Wildlife Service, Interior.

ACTION: Notice of reopening of public comment period.

SUMMARY: Pursuant to the Refuge Improvement Act of 1997, the U.S. Fish and Wildlife Service has published the Tewaukon National Wildlife Refuge Draft Comprehensive Conservation Plan and Environmental Assessment. This Plan describes how the FWS intends to manage the Tewaukon NWR Complex for the next 10-15 years.

ADDRESSES: A copy of the Plan may be obtained by writing to U.S. Fish and Wildlife Service, Tewaukon NWR Complex, 9754 143½ Avenue SE, Cayuga, ND 50813.

The Plan can also be obtained electronically through the U.S. Fish and Wildlife Service Region 6 Land Acquisition and Refuge Planning HomePage. The Internet address to access the Plan is as follows: http://www.r6.fws.gov/larp/. Select the link to “CCP Status in Region 6,” click on North Dakota on the Region 6 map, and look under the “Refuge” column for links to the Tewaukon Draft CCP.

FOR FURTHER INFORMATION CONTACT: Allison Banks, U.S. Fish and Wildlife Service, P.O. Box 25486 DFC, Denver, CO 80225. 303/236-8145 extension 626; fax 303/236-4792.

SUPPLEMENTARY INFORMATION: Tewaukon NWR Complex is located in southeast North Dakota. Implementation of the Plan will focus on adaptive resource management of glaciated prairie wetlands, tall and mixed grass prairie grasslands, riparian woodlands, and opportunities for wildlife-dependent recreation. Habitat monitoring and evaluation will be emphasized as the Plan is implemented. Opportunities for compatible wildlife-dependent recreation will continue to be provided.

The comment period for this document will be reopened until August 14, 2000. All comments need to be addressed to: Allison Banks, Refuge Planner, Branch of Refuge Planning, U.S. Fish and Wildlife Service, P.O. Box 25486 DFC, Denver, Colorado 80225.

Dated: July 10, 2000.
Elliott Sutta,
Regional Director, Denver, Colorado.

[FR Doc. 00-17837 Filed 7-13-00; 8:45 am]

BILLING CODE 4310-55-M